DEPARTMENT OF COMMERCE

International Trade Administration

[A-549-502]

Circular Welded Carbon Steel Pipes and Tubes From Thailand: Final Results of Antidumping Duty Administrative Review; 2023-2024

AGENCY: Enforcement and Compliance, International Trade Administration, Department of Commerce.

SUMMARY: The U.S. Department of Commerce (Commerce) determines that circular welded carbon steel pipes and tubes from Thailand were not sold in the United States at less than normal value during the period of review (POR) March 1, 2023, through February 29, 2024.

DATES: Applicable July 3, 2025.

FOR FURTHER INFORMATION CONTACT: Michael Romani, AD/CVD Operations, Office I, Enforcement and Compliance, International Trade Administration, U.S. Department of Commerce, 1401 Constitution Avenue NW, Washington, DC 20230; telephone: (202) 482-0198.

SUPPLEMENTARY INFORMATION:

Background

On April 3, 2025, Commerce published in the Federal Register the preliminary results of the 2023-2024 administrative review of the antidumping duty order on circular welded carbon steel pipes and tubes (CWP) from Thailand.¹ We invited interested parties to comment on the Preliminary Results; however, no interested party submitted comments. Accordingly, the final results of this review remain unchanged from the Preliminary Results and no decision memorandum accompanies this notice. Commerce conducted this administrative review in accordance with section 751(a) of the Tariff Act of 1930, as amended (the Act).

¹ See Circular Welded Carbon Steel Pipes and Tubes from Thailand: Preliminary Results and Partial Rescission of Antidumping Duty Administrative Review; 2023-2024, 90 FR 14608 (April 3, 2025) (Preliminary Results), and accompanying Preliminary Decision Memorandum.

Scope of the Order

The products covered by this order are circular welded carbon steel pipes and tubes from Thailand. For a complete description of the scope of the order, see the Preliminary Results.²

² Id.

Rate for Non-Examined Company

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this review, we have calculated a weighted-average dumping margin of zero percent for the sole mandatory respondent Thai Steel Pipe Public Co., Ltd. (Saha Thai). Consistent with the court's decision in Albemarle,³ and Commerce's practice,⁴ we assigned the sole non-examined company under review, Thai Premium Pipe Co. Ltd. (TPP), a weighted-average dumping margin of zero percent, based on the rate calculated for Saha Thai, pursuant to section 735(c)(5)(B) of the Act.

³ See Albemarle Corp. v. United States, 821 F.3d 1345 (Fed. Cir. 2016) (Albemarle).

⁴ See Certain Cold-Rolled Steel Flat Products from the Republic of Korea: Preliminary Results of Antidumping Duty Administrative Review; 2020-2021, 87 FR 60989 (October 7, 2022), unchanged in Certain Cold-Rolled Steel Flat Products from the Republic of Korea: Final Results of Antidumping Duty Administrative Review; 2020-2021, 88 FR 20218 (April 5, 2023).

Final Results of Review

Commerce determines that the following weighted-average dumping margin exists for the period March 1, 2023, through February 29, 2024:

Exporter or producer | Weighted-average dumping margin (percent)
Saha Thai Steel Pipe Public Co., Ltd. (also known as Saha Thai Steel Pipe (Public) Company, Ltd.) | 0.00
Thai Premium Pipe Co. Ltd | 0.00

Disclosure

Normally, Commerce discloses to interested parties the calculations of the final results of an administrative review within five days of a public announcement or, if there is no public announcement, within five days of the date of publication of the notice of final results in the Federal Register, in accordance with 19 CFR 351.224(b). However, because we have made no changes to the Preliminary Results, there are no calculations to disclose.

Assessment Rates

Pursuant to section 751(a)(2)(A) of the Act, and 19 CFR 351.212(b)(1), Commerce shall determine, and U.S. Customs and Border Protection (CBP) shall assess, antidumping duties on all appropriate entries covered by this review. Where the respondent's weighted-average dumping margin is either zero or de minimis (i.e., less than 0.5 percent), we will instruct CBP to liquidate the appropriate entries without regard to antidumping duties. Accordingly, because Saha Thai's and TPP's weighted-average dumping margin is zero percent, we will instruct CBP to liquidate the appropriate entries without regard to antidumping duties.

For entries of subject merchandise during the POR produced by Saha Thai, for which it did not know that its merchandise was destined for the United States, we will instruct CBP to liquidate unreviewed entries at the all-others rate if there is no rate for the intermediate company(ies) involved in the transaction.

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of subject merchandise entered, or withdrawn from warehouse, for consumption on or after the date of publication as provided for by section 751(a)(2)(C) of the Act: (1) the cash deposit rates for Saha Thai and TPP will be equal to the weighted-average dumping margin established in the final results of this administrative review (i.e., 0.00 percent); (2) for merchandise exported by producers or exporters not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 15.67 percent, the all-others rate established in the less-than-fair-value investigation.⁵ These cash deposit requirements, when imposed, shall remain in effect until further notice.

⁵ See Order.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: June 27, 2025.
Christopher Abbott,
Deputy Assistant Secretary for Policy and Negotiations, performing the non-exclusive functions and duties of the Assistant Secretary for Enforcement and Compliance.

[FR Doc. 2025-12428 Filed 7-2-25; 8:45 am]

BILLING CODE 3510-DS-P